DEPARTMENT OF ENERGY

Federal Energy Regulatory Commission

[Docket No. RP03-616-000]

Viking Gas Transmission Company; Notice of Tariff Filing

October 2, 2003.

Take notice that on September 25, 2003, Viking Gas Transmission Company (Viking) tendered for filing to become part of Viking's FERC Gas Tariff, First Revised Volume No. 1, Third Revised Sheet No. 34, to become effective November 1, 2003.

Viking states that the purpose of this filing is to add language to Rate Schedule LMS which would automatically cause a monthly imbalance of less than 1000 Dekatherms to be cashed out at the 0-5 “no penalty” percentage level regardless of the actual monthly imbalance percentage. Viking states that it does not desire to penalize parties whose monthly imbalances are less than 1000 Dekatherms because such imbalance is insignificant in nature and not a source of major harm to its pipeline system.

Viking states that copies of this filing have been sent to all of Viking's contracted shippers and interested state regulatory commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 7, 2003.

Magalie R. Salas,
Secretary.

[FR Doc. E3-00019 Filed 10-8-03; 8:45 am]

BILLING CODE 6717-01-P